DEPARTMENT OF TRANSPORTATION

Pipeline and Hazardous Materials Safety Administration

Hazardous Materials: Notice of Applications for Modifications to Special Permit

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 22, 2021.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Donald Burger, Office of Hazardous Materials Safety, General Approvals and Permits Branch, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on March 02, 2021.
Donald P. Burger,
Chief, General Approvals and Permits Branch.

Special Permits Data
Application No. | Applicant | Regulation(s) affected | Nature of the special permits thereof
10915-M | Luxfer Inc | 172.203(a), 172.301(c), 173.302a(a)(1), 173.304a(a)(1), 180.205 | To modify the special permit to authorize additional Division 2.2 and 2.3 gases. (modes 1, 2, 3, 4, 5)
14193-M | Honeywell International Inc | 172.101(h) | To modify the special permit to add additional portable tanks. (modes 1, 2, 3)
14232-M | Luxfer Inc | 173.302(a), 173.304(a), 180.205 | To modify the special permit to authorize additional 2.2 and 2.3 gases. (modes 1, 2, 3, 4, 5)
16427-M | Washington State Department of Transportation | 172.101(k) | To modify the special permit to add an additional 1.4S hazmat to the permit. (passenger ferry vessel)
20425-M | Composite Advanced Technologies, LLC | 173.302(a) | To modify the special permit to waive the annual batch test for composite cylinders. (mode 1)
20499-M | Inmar Rx Solutions, Inc |  | To modify the special permit to authorize cargo only aircraft as a mode of transportation. (modes 1, 2, 4)
20801-M | New Avon Company | 172.315(a)(2) | To modify the special permit to authorize cargo vessel as a mode of transportation. (modes 1, 2)
21061-M | KLA Corporation | 173.212, 173.213 | To modify the special permit to authorize a new hazmat to be included in the permit. (modes 1, 4)
21085-M | Omron Robotics and Safety Technologies, Inc | 172.101(j), 173.185(b)(3) | To modify the special permit to authorize additional supplemental ICAO TI packing instructions. (modes 1, 2, 4)

[FR Doc. 2021-04602 Filed 3-4-21; 8:45 am]

BILLING CODE 4910-60-P